COMMISSION ON CIVIL RIGHTS

Agenda and Notice of Public Meeting of the Nevada Advisory Committee

Notice is hereby given, pursuant to the provisions of the rules and regulations of the U.S. Commission on Civil Rights, that a conference call of the Nevada Advisory Committee to the Commission will convene at 10 a.m. and adjourn at 11 a.m. (PDT) on Friday, May 9, 2003. The purpose of the conference call is to plan for the project on the Nevada Equal Rights Commission.

This conference call is available to the public through the following call-in number: 1-800-659-1081, access code: 16639339. Any interested member of the public may call this number and listen to the meeting. Callers can expect to incur charges for calls not initiated using the supplied call-in number or for those made over wireless lines, and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Philip Montez, Director of the Western Regional Office, 213-894-3437 (TDD 213-894-3435), by 3 p.m. on Thursday, May 8, 2003.

The meeting will be conducted pursuant to the provisions of the rules and regulations of the Commission.

Dated at Washington, DC, April 24, 2003.
Dawn Sweet,
Acting Chief, Regional Programs Coordination Unit.

[FR Doc. 03-11288 Filed 5-6-03; 8:45 am]

BILLING CODE 6335-01-P